Proclamation 10964 of August 14, 2025

90th Anniversary of the Social Security Act

By the President of the United States of America

A Proclamation

On August 14, 1935, President Franklin D. Roosevelt signed into law the Social Security Act—a monumental legislative achievement that protects our seniors, uplifts our citizens, and sustains the livelihoods of hardworking Americans who devoted their professions to bettering our country. On the 90th anniversary of the establishment of this historic program, I recommit to always defending Social Security, rewarding the men and women who make our country prosperous, and taking care of our own workers, families, seniors, and citizens first.

To this day, Social Security is rooted in a simple promise: those who gave their careers to building our Nation will always have the support, stability, and relief they deserve. Thanks to my Administration's efforts, Social Security now stands stronger and more resilient than ever before. Following the passage of the historic One Big Beautiful Bill last month, the vast majority of seniors who receive Social Security will pay zero tax on their Social Security benefits—the largest tax break for seniors in the history of our country.

To further strengthen Social Security, my Administration is aggressively rooting out all fraud, waste, and abuse that rob our Federal programs of resources—including stopping payments to the deceased and eliminating benefits for those who do not legally qualify. These measures will save American taxpayers billions of dollars every year and ensure that future generations receive the benefits they spent their lives paying into. At the same time, I am making the Social Security Administration more efficient, more responsive, and more effective than ever before—reducing wait times and delivering the payments the American people worked hard to earn. I am also proudly restoring strong border security policies to ensure that Medicare and Social Security are preserved for the citizens who paid into them—not abused by illegal aliens who have no right to be here.

On this 90th anniversary of the Social Security Act, we recognize the countless contributions of every American senior who has invested their time, talent, and resources into our Nation's future. On this momentous milestone, we recommit to strengthening our retirement system, protecting programs like Social Security and Medicare against fraud and abuse, and ensuring that every future generation of American citizens has the income security they need and earned.

NOW, THEREFORE, I, DONALD J. TRUMP, President of the United States of America, by virtue of the authority vested in me by the Constitution and the laws of the United States, do hereby proclaim August 14, 2025, as the 90th Anniversary of the Social Security Act.

IN WITNESS WHEREOF, I have hereunto set my hand this fourteenth day of August, in the year of our Lord two thousand twenty-five, and of the Independence of the United States of America the two hundred and fiftieth.

[FR Doc. 2025-15827

Filed 8-18-25; 8:45 am]

Billing code 3395-F4-P